NATIONAL ARCHIVES AND RECORDS ADMINISTRATION

[NARA-2015-030]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the National Archives of the United States to preserve records of continuing value and agencies to destroy, after a specified period, records lacking administrative, legal, research, or other value. NARA publishes notice for records schedules in which agencies propose to destroy records not previously authorized for disposal or reduce the retention period of records already authorized for disposal. NARA invites public comments on such records schedules, as required by 44 U.S.C. 3303a(a).

DATES: NARA must receive requests for copies in writing by April 1, 2015. Once NARA has completed appraisal of the records is completed, we will send you a copy of the schedule. NARA staff usually prepare appraisal memoranda that contain additional information concerning the records covered by a proposed schedule. You may also request these, and we will provide them once we have completed the appraisal. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. If you would also like the appraisal reports, please say so in your request.

FOR FURTHER INFORMATION CONTACT: Margaret Hawkins, Director, Records Management Services (ACNR), by mail at: National Archives and Records Administration; 8601 Adelphi Road; College Park, MD 20740-6001, by telephone at 301-837-1799, or by email at request.schedule@nara.gov.

SUPPLEMENTARY INFORMATION: Each year Federal agencies create billions of records on paper, film, magnetic tape, and other media. To control this accumulation, agency records managers prepare schedules proposing retention periods for records and submit these schedules for NARA's approval. These schedules provide for timely transfer into the National Archives of historically valuable records and authorize disposal of all other records after the agency no longer needs them to conduct its business. Some schedules are comprehensive and cover all the records of an agency or one of its major subdivisions. Most schedules, however, cover records of only one office or program or a few series of records. Many of these update previously approved schedules, and some include records proposed as permanent.

The schedules listed in this notice are media-neutral unless specified otherwise. An item in a schedule is media-neutral when the disposition instructions may be applied to records regardless of the medium in which the records are created and maintained. Items included in schedules submitted to NARA on or after December 17, 2007, are media-neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Defense, National Reconnaissance Office; Department of Defense, National Geospatial-Intelligence Agency; Department of Defense, National Security Agency (N1-525-13-1, 5 items, 5 temporary items). Routine budget, finance, contracts, and procurement records associated with a multi-mission ground station.

2. Department of Defense, National Reconnaissance Office; Department of Defense, National Geospatial-Intelligence Agency; Department of Defense, National Security Agency (N1-525-13-2, 4 items, 4 temporary items). Routine human resources records associated with a multi-mission ground station.

3. Department of Defense, National Reconnaissance Office; Department of Defense, National Geospatial-Intelligence Agency; Department of Defense, National Security Agency (N1-525-14-2, 3 items, 3 temporary items). Project files and routine information technology records associated with a multi-mission ground station.

4. Department of Defense, National Reconnaissance Office; Department of Defense, National Geospatial-Intelligence Agency; Department of Defense, National Security Agency (N1-525-14-3, 11 items, 11 temporary items). Routine environmental safety, health and wellness, facilities, and logistics records associated with a multi-mission ground station.

5. Department of Defense, National Reconnaissance Office; Department of Defense, National Geospatial-Intelligence Agency; Department of Defense, National Security Agency (N1-525-14-4, 7 items, 7 temporary items). Routine physical security records and information security records associated with a multi-mission ground station.

6. Department of Homeland Security, Transportation Security Administration (DAA-0560-2013-0001, 1 item, 1 temporary item). Master files of an electronic information system used to track the collection and disposal of hazardous materials collected at screening checkpoints.

7. Department of Homeland Security, Transportation Security Administration (DAA-0560-2013-0004, 1 item, 1 temporary item). Master files of an electronic information system used to track occupational health information.

8. Department of Homeland Security, Transportation Security Administration (DAA-0560-2013-0009, 2 items, 2 temporary items). Records related to performance audits at screening locations.

9. Department of Justice, Bureau of Alcohol, Tobacco, Firearms, and Explosives (DAA-0436-2012-0005, 2 items, 2 temporary items). Master files and outputs of an electronic information system used to process background checks for firearms purchases.

10. Department of Justice, Bureau of Alcohol, Tobacco, Firearms, and Explosives (DAA-0436-2012-0009, 2 items, 2 temporary items). Records related to the importation of firearms and ammunition.

11. Department of Justice, Bureau of Alcohol, Tobacco, Firearms, and Explosives (DAA-0436-2012-0010, 9 items, 9 temporary items). Records related to firearms registration and taxation. Records also include master files and outputs of electronic information systems used in the administration of a firearms registration program.

12. Department of Justice, Bureau of Alcohol, Tobacco, Firearms, and Explosives (DAA-0436-2012-0011, 2 items, 2 temporary items). Master files and outputs of an electronic information system used to manage investigative case files.

13. Department of State, Bureau of Diplomatic Security (N1-59-11-13, 7 items, 7 temporary items). Records of the Office of Investigations and Counterintelligence including assessments, reports, administrative files, and investigative case files.

14. Department of Transportation, Federal Highway Administration (DAA-0406-2013-0001, 2 items, 2 temporary items). Experimental project files and test and evaluation project files.

15. Department of Transportation, Federal Highway Administration (DAA-0406-2014-0001, 3 items, 3 temporary items). Content records of agency social networking Web sites.

16. Department of Transportation, Federal Highway Administration (DAA-0406-2014-0002, 3 items, 3 temporary items). Loan and grant files.

17. Department of Transportation, Federal Motor Carrier Safety Administration (DAA-0557-2013-0003, 1 item, 1 temporary item). Master files of an electronic information system used to track safety performance and compliance histories.

18. Export-Import Bank of the United States, Agency-wide (DAA-0275-2015-0001, 1 item, 1 temporary item). Compliance documents, final agreements, and other transaction records.

19. Federal Communications Commission, Office of Media Relations (DAA-0173-2015-0001, 1 item, 1 temporary item). Content records of agency social networking Web sites.

20. James Madison Memorial Fellowship Foundation, Agency-wide (N1-508-15-1, 17 items, 8 temporary items). Routine and uncaptioned photographs, compliance reports, fellowship applications, administrative files, recipient financial records, and Web site records. Proposed for permanent retention are records of executive leadership, publications, news releases, video recordings, and event photographs.

21. National Archives and Records Administration, Government-wide (DAA-GRS-2014-0002, 20 items, 20 temporary items). General Records Schedule for employee acquisition records including classification standards, position descriptions, classification appeals, job vacancy case files and application packages, interview records, political appointment records, special hiring authority program records, and pre-appointment records.

22. National Archives and Records Administration, Government-wide (DAA-GRS-2015-0002, 3 items, 3 temporary items). General Records Schedule for classified information nondisclosure agreements and files relating to the inadvertent release of privileged information to unauthorized parties.

23. Office of the Federal Coordinator for Alaska Natural Gas Transportation Projects, Agency-wide (N1-596-15-1, 9 items, 4 temporary items). Records include correspondence, policy memorandums, and pilot project files. Proposed for permanent retention are records of the executive leadership, white papers, speeches, publications, and public presentations.

Dated: February 23, 2015.
Paul M. Wester Jr.,
Chief Records Officer for the U.S. Government.

[FR Doc. 2015-04235 Filed 2-27-15; 8:45 am]

BILLING CODE 7515-01-P